DEPARTMENT OF ENERGY

National Nuclear Security Administration

Notice of Intent To Prepare a Programmatic Environmental Impact Statement for Plutonium Pit Production

AGENCY: National Nuclear Security Administration, Department of Energy.

ACTION: Notice of intent.

SUMMARY: The National Nuclear Security Administration (NNSA), a semi-autonomous agency within the United States (U.S.) Department of Energy (DOE), announces its intent to initiate a National Environmental Policy Act of 1969 (NEPA) programmatic environmental impact statement (PEIS) process to ensure NEPA compliance for the production of plutonium pits in support of NNSA's Stockpile Stewardship and Management Program. The PEIS will evaluate the programmatic environmental impacts of producing pits at the Congressionally mandated rate (and potentially other reasonable rates) using various single site and multi-site alternatives; associated activities at other NNSA sites; and associated waste management and transportation activities. The purpose of this Notice is to invite public participation in the PEIS process and to solicit public comment on the scope, environmental issues, and alternatives for consideration by NNSA in the draft PEIS.

DATES: NNSA will hold initial virtual public scoping meetings and subsequent public hearings on the draft PEIS. During scoping, NNSA invites other Federal agencies, Native American Tribes, State and local governments, industry, other organizations, and members of the public to review and submit comments on the scope and alternatives of the PEIS. The deadline to submit these comments will be 45 days after the final public scoping meeting. As noted, the final public scoping meeting is currently scheduled for May 28, 2025, and therefore, the current deadline for comments is July 14, 2025. Comments received after this date will be considered to the extent practicable. NNSA will hold two virtual public scoping meetings. The information about the scoping meetings (i.e., date, time, phone number, and accessible hyperlink) is provided in the table below. If there are future changes to this information, it would be provided in a future notice posted on the following website: https://www.energy.gov/nnsa/nnsa-nepa-reading-room, no fewer than 15 days from the planned meeting date.

Virtual scoping meeting dates and times | Hyperlink
Tuesday, May 27, 2025, 5-7:30 p.m. ET | https://bit.ly/PuPEISMtg1. Dial in by Phone: (571) 429-4592. Phone conference ID: 808 821 801#.
Wednesday, May 28, 2025, 7-9:30 p.m. ET | https://bit.ly/PuPEISMtg2. Dial in by Phone: (571) 429-4592. Phone conference ID: 989 289 432#.

ADDRESSES: Written comments on the scope of the PEIS, requests to be placed on the PEIS distribution list, and comments or questions on the scoping process should be sent to: Ms. Jade Fortiner, NEPA Document Manager, National Nuclear Security Administration, Office of Pit Production Modernization, U.S. Department of Energy, 1000 Independence Ave. SW, Washington, DC 20585 or email to PitPEIS@nnsa.doe.gov. Before including your address, phone number, email address, or other personal identifying information in your comment, please be advised that your entire comment—including your personal identifying information—may be made publicly available. If you wish for NNSA to withhold your name and/or other personally identifiable information, please state this prominently at the beginning of your comment. You may also submit comments anonymously. NNSA requests all Federal, State, Native American Tribes, and local agencies that desire to be designated as cooperating agencies on the PEIS to contact the NEPA Document Manager at the address listed in this section by the end of the scoping period.

FOR FURTHER INFORMATION CONTACT: For further information about this Notice, please contact Ms. Kristen M. Dors, NEPA Compliance Officer, NNSA Office of Environment, Safety and Health, Los Alamos Field Office, 3747 West Road, Los Alamos, NM 87544; telephone: 505-606-8953; or email to: PitPEIS@nnsa.doe.gov.

This Notice will be available on the internet at: https://www.energy.gov/nepa/listings/notices-intent-noi and https://www.energy.gov/nnsa/nnsa-nepa-reading-room.

SUPPLEMENTARY INFORMATION:

Background

NNSA is responsible for meeting the national security requirements established by the President and Congress to maintain and enhance the safety, reliability, and performance of the U.S. nuclear weapons stockpile. Plutonium pits are critical components of every nuclear weapon; nearly all current stockpile pits were produced from 1978 to 1989. The United States' capability to produce plutonium pits is limited and does not meet Federal requirements.

Per title 50 United States Code (U.S.C.) 2538a, NNSA is mandated to manufacture no fewer than 80 war reserve pits per year by 2030. This number is driven by the stockpile's size, the need to replace existing pits as they age, and the requirement for the United States to have a flexible and resilient manufacturing capability with the capacity to produce a variety of pits to meet current and planned military stockpile requirements and ensure the safety, security, and effectiveness of the nation's nuclear stockpile.

Previously, NNSA prepared the 2008 Complex Transformation Supplemental PEIS (DOE/EIS-0236-S4) to analyze the potential environmental impacts associated with pit production at different site alternatives: Los Alamos National Laboratory (LANL) in Los Alamos, New Mexico; Savannah River Site (SRS) near Aiken, South Carolina; Pantex Plant near Amarillo, Texas; Y-12 National Security Complex in Oak Ridge, Tennessee; and the Nevada Test Site (now named the Nevada National Security Site) north of Las Vegas, Nevada. At SRS, the Complex Transformation Supplemental PEIS also evaluated a pit production facility that would use the Mixed-Oxide Fuel Fabrication Facility and Pit Disassembly and Conversion Facility infrastructure. Additionally, pit production at LANL has been analyzed in several NEPA documents over the past two decades, including the 2008 Site-Wide Environmental Impact Statement for Continued Operation of the Los Alamos National Laboratory, Los Alamos, New Mexico (DOE/EIS-0380) and the 2020 Final Supplement Analysis of the 2008 Site-Wide Environmental Impact Statement for the Continued Operation of Los Alamos National Laboratory for Plutonium Operations (DOE/EIS-380-SA-06). On September 2, 2020, NNSA published a record of decision (ROD) stating LANL will implement actions to produce a minimum of 30 war reserve pits per year during 2026 for the national pit production mission and implement surge efforts to exceed 30 pits per year up to the analyzed limit (80 war reserve pits per year) as necessary (85 FR 54550).

Purpose and Need for Agency Action

The national security policies of the United States require a safe, secure, and reliable nuclear weapons stockpile and the maintenance of core competencies to design, manufacture, and maintain nuclear weapons. The 2022 Nuclear Posture Review identified plutonium pit production as one of the highest priorities in the modernization of the nuclear security enterprise over the next ten years. To meet the need outlined in Federal legislation and requirements delineated by the U.S. Department of Defense, NNSA must establish a workforce and infrastructure capable of producing no fewer than 80 pits per year as soon as possible, while eliminating single point failures and providing flexible capacity options. The PEIS process is to ensure NEPA compliance for production of plutonium pits in support of these requirements and NNSA's Stockpile Stewardship and Management Program. The PEIS will evaluate the programmatic environmental impacts of producing pits at the Congressionally mandated rate needed to meet Federal requirements (and potentially other reasonable rates) using various single site and multi-site alternatives; associated activities at other NNSA sites; and associated waste management and transportation activities.

Requirements To Fulfill DOE NEPA Compliance

NNSA is responsible for management and implementation of the requirements of NEPA, and the regulations and policies promulgated thereunder, including, but not limited to the National Environmental Policy Act of 1969, DOE NEPA implementing procedures (10 CFR part 1021), the Amendments to NEPA from the Fiscal Responsibility Act of 2023 (H.R. 3746), DOE Order 451.1B NEPA Compliance Program, and NNSA Policy (NAP) 451.1 NEPA Compliance Program. The PEIS will be prepared pursuant to NEPA and applicable regulations and policies promulgated thereunder. The PEIS will be prepared in the same manner as a draft or final EIS and will provide the public with an analysis of the potential environmental impacts, at a programmatic level, associated with the reasonable alternatives.

Preliminary Alternatives

The PEIS will evaluate NNSA's proposal to produce plutonium pits at required quantities to meet national security requirements and the potential environmental impacts associated with a range of reasonable alternatives for achieving the necessary pit production capabilities and operations at a programmatic level. For analytical purposes, this PEIS will evaluate potential impacts over a 50-year period, through approximately 2075.

In the PEIS, NNSA intends to analyze: (1) site alternatives; and (2) capacity alternatives for the near term (producing pits at the current Congressionally mandated rate) and the long term (to account for potential changes in future national security requirements for pits). With regard to site alternatives, NNSA considers LANL and SRS to be reasonable alternatives because of the available facilities and infrastructure at those sites that is being/could be used to produce pits to meet the mandated schedule and capacity requirements. NNSA will evaluate other potential site alternatives in the PEIS if they are determined to be reasonable. Construction of a new facility (greenfield) is likely to be considered unreasonable because it would not meet the federally mandated pit production rate in the near term and is likely cost prohibitive, however, NNSA has not decided to exclude greenfield alternatives at this time.

The No-Action Alternative will be based on NNSA's prior decision to produce 30 pits per year at LANL with surge efforts to produce up to 80 pits per year (85 FR 54544, September 2, 2020). NNSA welcomes input on alternatives to be analyzed in the PEIS.

Preliminary Environmental Analysis

The following issues have been identified for analysis in the PEIS. The list is tentative and intended to facilitate public comment on the scope of the PEIS. It is not intended to be all-inclusive, nor does it imply any predetermination of potential impacts. NNSA specifically invites suggestions for the addition or deletion of items on this list.

1. Impacts on land use and applicable plans and policies.

2. Impacts on visual aesthetics.

3. Impacts on geology and soil.

4. Impacts on water resources, including floodplains and wetlands.

5. Impacts on air quality and noise.

6. Impacts to plants and animals and their habitat, including species which are federally- or State-listed as threatened or endangered, or of special concern.

7. Impacts to cultural resources such as those that are historic and paleontological.

8. Socioeconomic impacts to affected communities.

9. Impacts from traffic and transportation of radiological and hazardous materials and waste.

10. Impacts from use of utilities, including water and electricity consumption, fuel use, sewer discharges, and resource conservation.

11. Impacts on the public and workers from exposures to radiological and hazardous materials during construction and normal operations.

12. Impacts on the public and workers from exposures to radiological and hazardous materials from reasonably foreseeable accidents, and intentional destructive acts.

13. Impacts on waste management activities and capacities at on-site and off-site locations.

PEIS Process

The scoping process is intended to involve all interested agencies (Federal, State, Native American Tribes, county, and local), public interest groups, businesses, and members of the public. Interested parties are invited to participate in the PEIS process, both to refine the preliminary alternatives and environmental issues to be analyzed in depth and to eliminate from detailed study those alternatives and environmental issues that are not reasonable or pertinent. Input from the scoping process will assist NNSA in formulating the proposed action, refining the alternatives, and defining the scope of PEIS analyses.

Following the scoping period announced in this Notice, and after consideration of comments received during scoping, NNSA will prepare a draft PEIS for pit production. NNSA will announce the availability of the draft PEIS in the Federal Register and through other means, including media outlets in the areas around planned hearing locations. The comment period on the draft PEIS will be at least 90 days. NNSA will hold public hearings on the draft PEIS in Aiken, South Carolina; Kansas City, Missouri; Livermore, California; Santa Fe, New Mexico; Washington DC; and any other location NNSA deems relevant to the PEIS. Details related to those hearings will be provided in NNSA's public notices. Comments received on the draft PEIS will be considered and addressed in the Final PEIS. NNSA will issue a ROD no sooner than 30 days after publication by the Environmental Protection Agency of a Notice of Availability of the final PEIS.

PEIS Preparation and Schedule

NNSA expects to issue the draft PEIS within approximately one year of this NOI and complete the final PEIS and ROD within approximately 2 years.

Signing Authority

This document of the Department of Energy was signed on April 22, 2025, by Teresa M. Robbins, Acting Under Secretary for Nuclear Security and NNSA Administrator, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 6, 2025.
Jennifer Hartzell,
Alternate Federal Register Liaison Officer, U.S. Department of Energy.

[FR Doc. 2025-08140 Filed 5-8-25; 8:45 am]

BILLING CODE 6450-01-P